DEPARTMENT OF COMMERCE

International Trade Administration

[A-122-863, A-570-077, A-484-803, A-533-881, A-580-897, A-489-833]

Large Diameter Welded Pipe From Canada, Greece, India, the People's Republic of China, the Republic of Korea, and the Republic of Turkey: Postponement of Preliminary Determinations in the Less-Than-Fair-Value Investigations

AGENCY: Enforcement and Compliance, International Trade Administration, Department of Commerce.

DATES: Applicable June 15, 2018.

FOR FURTHER INFORMATION CONTACT: Susan Pulongbarit at (202) 482-4031 (Canada); Brittany Bauer at (202) 482-3860 (Greece); Jaron Moore at (202) 482-3640 (India); Kabir Archuletta at (202) 482-8024 (the People's Republic of China (China)); Jesus Saenz at (202) 482-8184 (the Republic of Korea (Korea)); and Rebecca Janz at (202) 482-2972 (the Republic of Turkey (Turkey)), AD/CVD Operations, Enforcement and Compliance, International Trade Administration, U.S. Department of Commerce, 1401 Constitution Avenue NW, Washington, DC 20230.

SUPPLEMENTARY INFORMATION:

Background

On February 9, 2018, the U.S. Department of Commerce (Commerce) initiated less-than-fair-value (LFTV) investigations of imports of large diameter welded pipe from Canada, China, Greece, India, Korea, and Turkey.¹ Currently, the preliminary determinations are due no later than June 29, 2018.²

¹ See Large Diameter Welded Pipe from Canada, Greece, India, the People's Republic of China, the Republic of Korea, and the Republic of Turkey: Initiation of Less-Than-Fair-Value Investigations, 83 FR 7154 (February 20, 2018).

² Commerce has exercised its discretion to toll deadlines for the duration of the closure of the Federal Government from January 20 through 22, 2018. See Memorandum, “Deadlines Affected by the Shutdown of the Federal Government,” dated January 23, 2018 (Tolling Memorandum). Accordingly, all deadlines in this segment of the proceeding have been extended by 3 days.

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Pursuant to 19 CFR 351.205(e), the petitioner must submit a request to postpone 25 days or more before the scheduled date of the preliminary determination, and must state the reasons for postponement. Commerce will grant the request unless it finds compelling reasons to deny the request. See 19 CFR 351.205(e).

On May 23, 2018, the petitioners ³ submitted a timely request that Commerce postpone the preliminary determinations in these LTFV investigations.⁴ The petitioners stated that the purpose of their request is to provide Commerce with adequate time to solicit information from the respondents and to allow Commerce sufficient time to analyze respondents' questionnaire responses.⁵

³ American Cast Iron Pipe Company, Berg Steel Pipe Corp., Berg Spiral Pipe Corp., Dura-Bond Industries, and Stupp Corporation, individually and as members of the American Line Pipe Producers Association; Greens Bayou Pipe Mill, LP; JSW Steel (USA) Inc.; Skyline Steel; and Trinity Products LLC (collectively, the petitioners).

⁴ See Petitioners' Letters, “Large Diameter Welded Pipe from Canada: Petitioners' Request for Postponement of the Preliminary Determination,” dated May 23, 2018; “Large Diameter Welded Pipe from China: Petitioners' Request for Postponement of the Preliminary Determination,” dated May 23, 2018; “Large Diameter Welded Pipe from Greece: Petitioners' Request for Postponement of the Preliminary Determination,” dated May 23, 2018; “Large Diameter Welded Pipe from India: Petitioners' Request for Postponement of the Preliminary Determination,” dated May 23, 2018; “Large Diameter Welded Pipe from Korea: Petitioners' Request for Postponement of the Preliminary Determination,” dated May 23, 2018; “Large Diameter Welded Pipe from Turkey: Petitioners' Request for Postponement of the Preliminary Determination,” dated May 23, 2018.

⁵ Id.

In accordance with 19 CFR 351.205(e), there are no compelling reasons to deny the request. Therefore, in accordance with section 733(c)(1)(A) of the Act and 19 CFR 351.205(e), we are postponing the preliminary determinations in these LTFV investigations by 50 days (i.e., 190 days after the date on which these investigations were initiated). Additionally, Commerce exercised its discretion to toll deadlines affected by the closure of the Federal Government from January 20 through 22, 2018.⁶ Accordingly, Commerce is postponing the deadline for the preliminary determinations to August 20, 2018.⁷ Pursuant to section 735(a)(1) of the Act and 19 CFR 351.210(b)(1), the deadline for the final determinations of these investigations will continue to be 75 days after the date of the preliminary determinations, unless postponed.

⁶ See Tolling Memorandum.

⁷ Note that the revised deadline reflects a full postponement to 190 days after the date on which this investigation was initiated, in addition to a 3-day extension due to closure of the Federal Government. As this new deadline falls on a Saturday, the deadline moves to the next business day. See Notice of Clarification: Application of “Next Business Day” Rule for Administrative Determination Deadlines Pursuant to the Tariff Act of 1920, as Amended, 70 FR 24533 (May 10, 2005).

This notice is issued and published pursuant to section 733(c)(2) of the Act and 19 CFR 351.205(f)(1).

Dated: June 8, 2018.
Gary Taverman,
Deputy Assistant Secretary for Antidumping and Countervailing Duty Operations, performing the non-exclusive functions and duties of the Assistant Secretary for Enforcement and Compliance.

[FR Doc. 2018-12899 Filed 6-14-18; 8:45 am]

BILLING CODE 3510-DS-P